DEPARTMENT OF TRANSPORTATION

Federal Aviation Administration

[Docket No. FAA-2022-0116]

Air Transportation of the COVID-19 Vaccines

AGENCY: Federal Aviation Administration (FAA), DOT.

ACTION: Notice and request for comments.

SUMMARY: In accordance with the Paperwork Reduction Act of 1995, the FAA invites public comments about its intention to request the Office of Management and Budget (OMB) grant emergency approval for a new information collection. The Federal Register Notice with a 60-day comment period soliciting comments is waived, as this is an emergency action in response to the COVID-19 public health emergency. This action would enable the FAA to collect voluntary information from air carriers authorized to conduct operations under the Code of Federal Regulations that participate or have participated in transport of the COVID-19 vaccines to support continued operational safety and efficiency.

DATES: Written comments should be submitted by March 4, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ben Supko, Executive Director, FAA Office of Hazardous Materials Safety (AXH-1), by email at: hazmatinfo@faa.gov; phone: (202) 267-7211.

SUPPLEMENTARY INFORMATION:

Public Comments Invited: You are asked to comment on any aspect of this information collection, including (a) whether the proposed collection of information is necessary for the FAA's performance; (b) the accuracy of the estimated burden; (c) ways for the FAA to enhance the quality, utility and clarity of the information collection; and (d) ways that the burden could be minimized without reducing the quality of the collected information.

OMB Control Number: To be determined.

Title: Air Transportation of the COVID-19 Vaccines.

Form Numbers: N/A.

Type of Review: Clearance of a new information collection.

Background: The Federal Register Notice with a 60-day comment period soliciting comments on the following collection of information is waived, as this is an emergency action regarding transport of the COVID-19 vaccines. The FAA seeks this information collection in connection with the FAA COVID-19 Vaccine Air Transport Team's work with air carriers, and other aviation stakeholders to aid in the safe, expeditious, and efficient transport of the COVID-19 vaccines. This new collection would enable the FAA to collect voluntary information from air carriers authorized to operate under parts 121 and 135 of title 14, Code of Federal Regulations (14 CFR) that participate or have participated in transport of the COVID-19 vaccines.

The continuing mission of the FAA is to provide the safest, most efficient aerospace system in the world. The FAA's authority on aviation safety is found in title 49, United States Code (U.S.C.). The authority described in 49 U.S.C. 106(f) vests final authority in the Administrator to carry out all functions, powers, and duties of the Administration relating to the promulgation of regulations, rules, orders, circulars, bulletins, and other official publications of the Administration. Section 44701(a)(5) of title 49, U.S.C. also requires the Administrator to promulgate regulations and minimum standards for other practices, methods, and procedures the Administrator finds necessary for safety in air commerce and national security. Pursuant to 49 U.S.C. 44701(b)(1), the Administrator may prescribe minimum safety standards for an air carrier to whom an air carrier operating certificate is issued under 49 U.S.C. 44705. When prescribing a regulation or minimum standard under section 44701(a) or (b), the Administrator must consider the duty of an air carrier to provide service with the highest possible degree of safety in the public interest, as prescribed by 49 U.S.C. 44701(d). Regulations and minimum standards necessary for the safe and efficient air transport of the COVID-19 vaccines are within the scope of these authorities and are in the public interest. The safe and efficient distribution of COVID-19 vaccines helps save lives, reduce the severity of COVID-19 illnesses and the associated strains on healthcare systems, and facilitate economic recovery.

The FAA has worked closely with air carriers, industry associations, and other aviation stakeholders to address safety matters, such as changed packaging configurations, data loggers, and increased dry ice limits in the context of air carrier operations to support transport of the COVID-19 vaccines. For example, on December 10, 2020, the FAA issued “Safety Alert for Operators 20017,” ¹ which identifies specific considerations related to the air transport of dry ice.

¹ Available at: https://www.faa.gov/other_visit/aviation_industry/airline_operators/airline_safety/safo/all_safos/media/2020/SAFO20017.pdf.

Since December 4, 2020, the Department of Transportation and the FAA have led a recurrent Vaccine Distribution Engagement Meeting (VDEM) to bring together government and industry to share ideas, successes, challenges, and ask questions related to transporting the COVID-19 vaccines. Aviation industry associations, air carriers, government partners, and other stakeholders have engaged to provide information and voice concerns—with no consensus recommendations sought for any governmental action—related to the logistics of transport by air of the COVID-19 vaccines. The entities represented at the recurrent VDEMs have collaborated to successfully transport the COVID-19 vaccines, while upholding the highest standards of aviation safety.

During VDEMs, both FAA and industry stakeholders identified common interest in querying participants to capture lessons learned. Accordingly, the FAA seeks voluntary information from air carriers authorized to operate under 14 CFR parts 121 and 135 that participate or have participated in transport of the COVID-19 vaccines. Information collected from these stakeholders may further enhance safety efforts and facilitate development of pertinent regulations, minimum standards, guidance, and other information.

Questions

1. Did the volume of vaccines transported per pound of dry ice increase over the duration of the COVID-19 pandemic? Please provide data that captures the change.

2. Were there observed lower sublimation rates due to improved packaging technology or other factors, and to what factors do you attribute these lower sublimation rates?

3. What risk mitigations have you utilized to enable safe and efficient air operations with larger than normal quantities of dry ice?

4. Was there anything that limited your ability to transport COVID-19 vaccines efficiently while maintaining aviation safety? If so, please describe.

5. What are key takeaways or accomplishments from the COVID-19 vaccine transportation effort over the past year that show the value of working closely with shippers, airframe manufacturers, and the FAA for data-driven safe and efficient operations?

6. What additional regulations, minimum standards, guidance, or other information would you like to see concerning the air transport of dry ice?

Respondents: The FAA estimates that a total of 39 entities will voluntarily submit responses for this information collection request.

Frequency: The FAA expects the submissions warrant a one-time burden to take place over the next three to six months for entities that choose to comply. The FAA may conduct this survey additional times, depending upon the duration of the COVID-19 pandemic, any significant developments in COVID-19 vaccine logistics and transport, and interest from VDEM participants.

Estimated Average Burden per Response: 5 hours reporting and 0 hours recordkeeping.

Estimated Total Annual Burden: 195 hours reporting and 0 hours recordkeeping.

Issued in Washington, DC, on January 27, 2022.
Daniel Benjamin Supko,
Executive Director, FAA, Office of Hazardous Materials Safety.

[FR Doc. 2022-02017 Filed 2-1-22; 8:45 am]

BILLING CODE 4910-13-P